FEDERAL LABOR RELATIONS AUTHORITY

5 CFR Part 2429

Miscellaneous and General Requirements

AGENCY: Federal Labor Relations Authority.

ACTION: Proposed rule with request for comments.

SUMMARY: The Federal Labor Relations Authority (FLRA) seeks public comments on a proposed addition to its regulations. This proposed addition concerns the revocation of a written assignment of amounts deducted from the pay of a Federal employee for the payment of regular and periodic dues allotted to an exclusive representative.

DATES: To be considered, comments must be received on or before April 9, 2020.

ADDRESSES: You may send comments, which must include the caption “Miscellaneous and General Requirements,” by one of the following methods:

• Email: FedRegComments@flra.gov. Include “Miscellaneous and General Requirements” in the subject line of the message.

• Mail or Hand Delivery: Emily Sloop, Chief, Case Intake and Publication, Federal Labor Relations Authority, Docket Room, Suite 200, 1400 K Street NW, Washington, DC 20424-0001.

Instructions: Do not mail or hand deliver written comments if they have been submitted via email. Interested persons who mail or hand deliver written comments must submit an original and 4 copies of each written comment, with any enclosures, on 8½ x 11 inch paper.

FOR FURTHER INFORMATION CONTACT: Rebecca Osborne, Deputy Solicitor, at rosborne@flra.gov or at: (202) 218-7986.

SUPPLEMENTARY INFORMATION: The FLRA is seeking to assure employees the fullest freedom in the exercise of their rights under the Federal Service Labor-Management Relations Statute, including their rights under 5 U.S.C. 7102 and 7115, in matters directly affecting their pay. Therefore, the FLRA proposes to define when an employee may initiate the revocation of a previously authorized assignment of amounts deducted from the pay of the employee for the payment of regular and periodic dues allotted to an exclusive representative. In particular, the FLRA proposes that, after the expiration of the one-year period during which an assignment may not be revoked under 5 U.S.C. 7115(a), an employee may initiate the revocation of a previously authorized assignment at any time that the employee chooses.

Executive Order 12866

The FLRA is an independent regulatory agency, and as such, is not subject to the requirements of E.O. 12866.

Executive Order 13132

The FLRA is an independent regulatory agency, and as such, is not subject to the requirements of E.O. 13132.

Regulatory Flexibility Act Certification

Pursuant to section 605(b) of the Regulatory Flexibility Act, 5 U.S.C. 605(b), the Chairman of the FLRA has determined that this rule, as amended, will not have a significant impact on a substantial number of small entities, because this rule applies only to Federal agencies, Federal employees, and labor organizations representing those employees.

Executive Order 13771, Reducing Regulation and Controlling Regulatory Costs

This proposed rule is not expected to be subject to the requirements of E.O. 13771 (82 FR 9339, Feb. 3, 2017) because this proposed rule is expected to be related to agency organization, management, or personnel.

Executive Order 13132, Federalism

This regulation will not have substantial direct effects on the States, on the relationship between the National Government and the States, or on distribution of power and responsibilities among the various levels of government. Therefore, in accordance with Executive Order 13132, this proposed rule does not have sufficient federalism implications to warrant preparation of a federalism assessment.

Executive Order 12988, Civil Justice Reform

This regulation meets the applicable standard set forth in section 3(a) and (b)(2) of Executive Order 12988.

Unfunded Mandates Reform Act of 1995

This rule change will not result in the expenditure by state, local, and tribal governments, in the aggregate, or by the private sector, of $100,000,000 or more in any one year, and it will not significantly or uniquely affect small governments. Therefore, no actions were deemed necessary under the provisions of the Unfunded Mandates Reform Act of 1995.

Small Business Regulatory Enforcement Fairness Act of 1996

This action is not a major rule as defined by section 804 of the Small Business Regulatory Enforcement Fairness Act of 1996. This rule will not result in an annual effect on the economy of $100,000,000 or more; a major increase in costs or prices; or significant adverse effects on competition, employment, investment, productivity, innovation, or on the ability of United States-based companies to compete with foreign-based companies in domestic and export markets.

Paperwork Reduction Act of 1995

The amended regulations contain no additional information collection or record-keeping requirements under the Paperwork Reduction Act of 1995, 44 U.S.C. 3501, et seq.

List of Subjects in 5 CFR Part 2429

Administrative practice and procedure, Government employees, Labor management relations.

Accordingly, for the reasons stated in the preamble, FLRA proposes to amend 5 CFR part 2429 as follows:

PART 2429—[AMENDED]

1. The authority citation for part 2429 continues to read as follows:

Authority: 5 U.S.C. 7134; § 2429.18 also issued under 28 U.S.C. 2112(a).

2. Add § 2429.19 to subpart A to read as follows:

§ 2429.19 Revocation of assignments.

Consistent with the exceptions in 5 U.S.C. 7115(b), after the expiration of the one-year period during which an assignment may not be revoked under 5 U.S.C. 7115(a), an employee may initiate the revocation of a previously authorized assignment at any time that the employee chooses.

Colleen Duffy Kiko,
Chairman, Federal Labor Relations Authority.

Note: The following appendix will not appear in the Code of Federal Regulations.

Member DuBester, Dissenting

For reasons expressed in my dissenting opinion in Office of Personnel Management (OPM),¹ I strongly disagree with the decision to commence notice-and-comment rulemaking regarding 5 U.S.C. 7115(a). In my view, the OPM decision erroneously discards well-reasoned FLRA precedent governing revocation of union-dues allotments and, therefore, further weakens the institution of collective bargaining in the federal sector.

¹ 71 FLRA 571, 576-579 (2020) (Dissenting Opinion of Member DuBester).

[FR Doc. 2020-05681 Filed 3-18-20; 8:45 am]

BILLING CODE 6727-01-P